DEPARTMENT OF COMMERCE

National Oceanic and Atmospheric Administration

50 CFR Parts 223, 224, and 226

[Docket No. 191121-0087]

RIN 0648-BI06

Endangered and Threatened Wildlife and Plants: Proposed Rule To Designate Critical Habitat for the Central America, Mexico, and Western North Pacific Distinct Population Segments of Humpback Whales

AGENCY: National Marine Fisheries Service (NMFS), National Oceanic and Atmospheric Administration (NOAA), Commerce.

ACTION: Extension of public comment period; notice of public hearing.

SUMMARY: NMFS announces the extension of the public comment period on the proposed rule to designate critical habitat for the Central America, Mexico, and Western North Pacific distinct population segments (DPSs) of humpback whales (Megaptera novaeangliae). We also announce that an additional public hearing will be held on this proposed rule.

DATES: The deadline for receipt of comments is extended to January 31, 2020. A public hearing will be held on January 6, 2020, from 4 p.m. to 7 p.m. (local time) in Petersburg, Alaska.

ADDRESSES: You may submit data, information, or written comments on the proposed rule, identified by NOAA-NMFS-2019-0066, and on the supplemental documents by the following methods:

Electronic Submission: Submit all electronic comments via the Federal eRulemaking Portal. Go to www.regulations.gov/#!docketDetail;D=NOAA-NMFS-2019-0066, click the “Comment Now!” icon, complete the required fields, and enter or attach your comments.

Mail: Submit written comments to Endangered Species Division, Office of Protected Resources, National Marine Fisheries Service, 1315 East West Highway (SSMC3), Silver Spring, MD 20910, Attn: Humpback Whale Critical Habitat Proposed Rule.

Instructions: Comments sent by any other method than the above (except if provided during a public hearing), to any other address or individual, or received after the end of the comment period, might not be considered by NMFS. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous). Attachments to electronic comments will be accepted in Microsoft Word, Excel, or Adobe PDF file formats only.

Public Hearing: A public hearing will be held on January 6, 2020, in the Petersburg Borough Assembly Chambers, 12 South Nordic Drive, Petersburg, Alaska 99833.

Supporting Documents: Documents supporting this proposed rule, which include a Draft Biological Report (NMFS 2019a), a Draft Economic Analysis (IEc 2019a), and a Draft Section 4(b)(2) Report (NMFS 2019b), are available on the Federal e-Rulemaking Portal, www.regulations.gov/#!docketDetail;D= NOAA-NMFS-2019-0066.

FOR FURTHER INFORMATION CONTACT: Lisa Manning, NMFS, Office of Protected Resources, 301-427-8466.

SUPPLEMENTARY INFORMATION:

Background

On October 9, 2019, we published a proposed rule to designate critical habitat for the endangered Western North Pacific DPS, the endangered Central America DPS, and the threatened Mexico DPS of humpback whales under the ESA (84 FR 54354). Areas proposed as critical habitat include specific marine areas located off the coasts of California, Oregon, Washington, and Alaska. Based on consideration of national security and economic impacts, we also have proposed to exclude multiple areas from the designation for each DPS. The deadline for submission of public comments on this proposed rule and the supporting documents was originally scheduled for December 9, 2019. Following receipt of several requests, we are extending the deadline for submission of public comments to January 31, 2020. This extension will help ensure that the proposed rule and supporting documents undergo thorough and robust review.

Public Hearings

A series of five public hearings was announced in the Federal Register on October 17, 2019 (84 FR 55530). In response to several requests, we are scheduling a sixth public hearing in Petersburg, Alaska, on January 6, 2020. See DATES and ADDRESSES sections for further details. We will be offering remote access to this hearing via a webinar. For instructions on how to access this hearing remotely, please contact Lisa Manning (see FOR FURTHER INFORMATION CONTACT).

The public hearing will begin with a brief presentation by NMFS to provide an overview of critical habitat under the ESA and a summary of the proposed critical habitat designations for humpback whales. Following the presentation, members of the public will have the opportunity to provide oral comments on the record regarding the proposed designations. Members of the public will also have the opportunity to submit written comments at the hearing. Written comments may also be submitted at any time during the public comment period; see ADDRESSES section for more details. Note that all comments received are a part of the public record and will generally be posted for public viewing on www.regulations.gov without change. All personal identifying information (e.g., name, address, etc.), confidential business information, or otherwise sensitive information submitted voluntarily by the commenter will be publicly accessible.

Reasonable Accommodations

People needing accommodations so that they may attend and participate at the public hearing should submit a request for reasonable accommodations as soon as possible, and no later than 7 business days prior to the hearing date, by contacting Lisa Manning (see FOR FURTHER INFORMATION CONTACT).

Authority: 16 U.S.C. 1531 et seq.

Dated: November 21, 2019.
Samuel D. Rauch III,
Deputy Assistant Administrator for Regulatory Programs, National Marine Fisheries Service.

[FR Doc. 2019-25759 Filed 11-26-19; 8:45 am]

BILLING CODE 3510-22-P